DEPARTMENT OF ENERGY

Federal Energy Regulatory Commission

Notice of FERC Staff Attendance at Meeting of California Independent System Operator Corporation

August 13, 2004.

The Federal Energy Regulatory Commission hereby gives notice that members of its staff may attend the August 17, 2004 MRTU Stakeholder Summit meeting of the California Independent System Operator Corporation (CAISO). The discussion will include the development and implementation of the CAISO's Market Redesign and Technology Upgrade project, which incorporates the conceptual market design changes of MD02.

The discussion may address matters at issue in the following proceedings:

Docket Nos. ER02-1656-000 and ER02-1656-019, California Independent System Operator Corporation

Docket Nos. ER04-928-000 and ER04-928-001, California Independent System Operator Corporation

Docket Nos. EL04-108-000 and EL04-108-001, Public Utilities Providing Service in California under Sellers' Choice Contracts

The meeting will take place on August 17, 2004 and is expected to begin at approximately 9:30 a.m., PDT. The meeting will take place at the Hyatt Regency Sacramento, 1209 L St., Sacramento, CA. The meeting is open to the public.

For more information, contact Matthew Deal, Office of Markets, Tariffs and Rates, Federal Energy Regulatory Commission at (202) 502-6363 or matthew.deal@ferc.gov.

Magalie R. Salas,
Secretary.

[FR Doc. E4-1873 Filed 8-19-04; 8:45 am]

BILLING CODE 6717-01-P